DEPARTMENT OF TRANSPORTATION

Federal Motor Carrier Safety Administration

49 CFR Part 395

[Docket No. FMCSA-2017-0360]

Hours of Service of Drivers of Commercial Motor Vehicles; Proposed Regulatory Guidance Concerning the Transportation of Agricultural Commodities; Extension of Comment Period

AGENCY: Federal Motor Carrier Safety Administration (FMCSA), DOT

ACTION: Proposed regulatory guidance; extension of comment period.

SUMMARY: FMCSA extends the public comment period for the Agency's December 20, 2017, notice announcing the proposed regulatory guidance concerning the transportation of agricultural commodities. On December 22, 2017, the American Trucking Associations, Inc. (ATA) requested a 30-day extension of the comment period. Additional requests for extension of the comment period have been received. The Agency extends the January 19, 2018, deadline for the submission of public comments to February 20, 2018.

DATES: FMCSA extends the comment period for the notice of proposed regulatory guidance published on December 20, 2017 at 82 FR 60360. You must submit comments on or before February 20, 2018.

ADDRESSES: You may insert comments identified by Federal Docket Management System Number FMCSA-2017-0360 by any of the following methods:

• Federal eRulemaking Portal: http://www.regulations.gov. Follow the online instructions for submitting comments.

• Mail: Docket Management Facility, U.S. Department of Transportation, 1200 New Jersey Avenue SE, West Building, Ground Floor, Room W12-140, Washington, DC 20590-0001.

• Hand Delivery or Courier: West Building, Ground Floor, Room W12-140, 1200 New Jersey Avenue SE, Washington, DC, between 9 a.m. and 5 p.m., Monday through Friday, except Federal holidays.

• Fax: (202) 493-2251.

To avoid duplication, please use only one of these four methods. See the “Public Participation and Request for Comments” portion of the SUPPLEMENTARY INFORMATION section for instructions on submitting comments.

FOR FURTHER INFORMATION CONTACT: Mr. Thomas Yager, Chief, Driver and Carrier Operations Division, Federal Motor Carrier Safety Administration, U.S. Department of Transportation, 1200 New Jersey Avenue SE, Washington, DC 20590, phone (614) 942-6477, email MCPSD@dot.gov.

SUPPLEMENTARY INFORMATION:

I. Public Participation and Request for Comments

A. Submitting Comments

If you submit a comment, please include the docket number listed above, indicate the specific section of this document to which your comment applies, and provide a reason for each suggestion or recommendation. You may submit your comments and material online or by fax, mail, or hand delivery. FMCSA recommends that you include your name and a mailing address, an email address, or a phone number in the body of your document so that FMCSA can contact you if there are questions regarding your submission.

To submit your comment online, go to http://www.regulations.gov, put the docket number, FMCSA-2017-0360, in the keyword box, and click “Search.” When the new screen appears, click on the “Comment Now!” button and type your comment into the text box on the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this guidance based on your comments.

B. Viewing Comments and Documents

To view comments, go to http://www.regulations.gov. Insert the docket number, FMCSA-2017-0360, in the keyword box, and click “Search.” Next, click the “Open Docket Folder” button and choose the document to review. If you do not have access to the internet, you may view the docket online by visiting the Docket Management Facility in Room W12-140 on the ground floor of the DOT West Building, 1200 New Jersey Avenue SE., Washington, DC 20590, between 9 a.m. and 5 p.m., e.t., Monday through Friday, except Federal holidays.

C. Privacy Act

In accordance with 5 U.S.C. 553(c), DOT solicits comments from the public to better inform its regulatory process. DOT posts these comments, without edit, including any personal information the commenter provides, to www.regulations.gov, as described in the system of records notice (DOT/ALL-14 FDMS), which can be reviewed at www.transportation.gov/privacy.

II. Background

On December 20, 2017 (82 FR 60360), FMCSA published a notice of proposed regulatory guidance concerning the transportation of agricultural commodities. That proposed guidance provides clarity to the agricultural exception in 49 CFR 395.1(k)(1) and specifically addresses two scenarios: (1) Driving an unladen commercial motor vehicle to either pick up an agricultural community or on a return trip following the delivery of an agricultural commodity; and (2) application of the agricultural commodity exemption to trips involving transportation of the commodity more than 150 air-miles from its source. In addition, the Agency requested comment on scenarios where a trip involves the loading of agricultural commodities at multiple sources and the meaning of the term “source” in connection with the loading of certain commodities. Finally, the Agency requested comment on what segments of the industry that would take advantage of the proposed change, how would the flexibility provided impact the need for electronic logging devices, and what is the population of carriers and drivers transporting various categories of agricultural commodities.

In the December 20, 2017, notice the Agency proposed new regulatory guidance question and answer numbers 34 and 35 to 49 CFR 395.1. A copy of the proposed regulatory guidance is available for review in the docket referenced at the beginning of this notice.

Requests for Extension of the Comment Period

On December 22, 2017, the American Trucking Associations, Inc. (ATA), asked that the Agency provide a 30-day extension of the comment period. ATA expressed concern that end-of-year tasks and holiday periods might make it difficult for many interested parties to prepare comments by the original January 19 deadline. A copy of the ATA request is in the docket identified at the beginning of this notice. Similar requests were subsequently submitted by other organizations.

FMCSA acknowledges the concerns of ATA and others. After reviewing the requests, FMCSA hereby grants a 30-day extension of the comment period to February 20, 2018, to provide all interested parties additional time to respond to the notice of proposed regulatory guidance.

Issued on: January 12, 2018.
Larry W. Minor,
Associate Administrator for Policy.

[FR Doc. 2018-00847 Filed 1-18-18; 8:45 am]

BILLING CODE 4910-EX-P